DEPARTMENT OF ENERGY

Federal Energy Regulatory Commission

[Project No. 14971-001]

Lock+™ Hydro Friends Fund XVIII, LLC; Notice of Surrender of Preliminary Permit

Take notice that Lock+™ Hydro Friends Fund XVIII, LLC, permittee for the proposed Union City Dam Hydropower Project, has requested that its preliminary permit be terminated. The permit was issued on January 13, 2020 and would have expired on December 31, 2023.¹ The project would have been located at the U.S. Army Corps of Engineers' (Corps) Union City Dam on French Creek in Erie County, Pennsylvania.

¹ 170 FERC ¶ 62,017 (2020).

The preliminary permit for Project No. 14971 will remain in effect until the close of business, February 13, 2023. But, if the Commission is closed on this day, then the permit remains in effect until the close of business on the next day in which the Commission is open.² New applications for this site may not be submitted until after the permit surrender is effective.

² 18 CFR 385.2007(a)(2) (2022).

Dated: January 12, 2023.
Kimberly D. Bose,
Secretary.

[FR Doc. 2023-00956 Filed 1-18-23; 8:45 am]

BILLING CODE 6717-01-P